DEPARTMENT OF ENERGY

Federal Energy Regulatory Commission

[Docket No. RP01-269-000]

Natural Gas Pipeline Company of America; Notice of Proposed Changes in FERC Gas Tariff

March 12, 2001.

Take notice that on March 6, 2001, Natural Gas Pipeline Company of America (Natural) tendered for filing to be part of its FERC Gas Tariff, Sixth Revised Volume No. 1, certain tariff sheets listed on Appendix A to the filing, to be effective April 6, 2001.

Natural states that the purpose of this filing is to make several minor revisions to its Tariff, including changes to the General Terms and Conditions and to several rate schedules. These changes correct or clarify several provisions of Natural's Tariff, remove or modify outdated provisions and provide Shippers with additional flexibility in the use of Rate Schedule NSS.

Natural states that copies of the filing have been mailed to its customers and interested state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests and interventions may be filed electronically via the interest in lieu of paper. See 18 CFR 385.2001(a)(1)(iii) and the instructions on the Commission's web site at http://www.ferc.fed.us/efi/doorbell.htm.

David P. Boergers,
Secretary.

[FR Doc. 01-6529 Filed 3-15-01; 8:45 am]

BILLING CODE 6717-01-M